COMMITTEE FOR THE IMPLEMENTATION OF TEXTILE AGREEMENTS

Extension of Period of Determination on Request for Textile and Apparel Safeguard Action on Imports from China

November 2, 2005.

AGENCY: The Committee for the Implementation of Textile Agreements (the Committee).

ACTION: Notice.

SUMMARY: The Committee is extending through November 8, 2005, the period for making a determination on whether to request consultations with China regarding imports of cotton and man-made fiber nightwear (Category 351/651).

FOR FURTHER INFORMATION CONTACT: Jay Dowling, Office of Textiles and Apparel, U.S. Department of Commerce, (202) 482-4058.

SUPPLEMENTARY INFORMATION:

Authority: Section 204 of the Agriculture Act of 1956, as amended; Executive Order 11651, as amended.

Background:

On July 11, 2005, the Committee received a request from the American Manufacturing Trade Action Coalition, the National Council of Textile Organizations, the National Textile Association, and UNITE HERE requesting that the Committee limit imports from China of cotton and man-made fiber nightwear (Category 351/651) due to market disruption.

The Committee determined that this request provided the information necessary for the Committee to consider the request and solicited public comments for a period of 30 days. See Solicitation of Public Comments on Request for Textile and Apparel Safeguard Action on Imports from China, 70 FR 44568 (August 3, 2005).

The Committee's Procedures, 68 FR 27787 (May 21, 2003) state that the Committee will make a determination within 60 calendar days of the close of the public comment period as to whether the United States will request consultations with China. If the Committee is unable to make a determination within 60 calendar days, it will cause to be published a notice in the Federal Register, including the date by which it will make a determination.

The 60-day determination period for this case expired on November 1, 2005. However, the Committee decided to extend until November 8, 2005, the period for making a determination on this case because of consultations with the Government of China on a broader agreement on textiles.

James C. Leonard III,
Chairman, Committee for the Implementation of Textile Agreements.

[FR Doc.05-22247 Filed 11-3-05; 2:22 pm]

BILLING CODE 3510-DS-S